NATIONAL SCIENCE FOUNDATION

Sunshine Act Meetings

The National Science Board's (NSB) Committee on Science and Engineering Policy (SEP) hereby gives notice of the scheduling of a videoconference for the transaction of National Science Board business pursuant to the National Science Foundation Act and the Government in the Sunshine Act.

TIME AND DATE: Thursday, June 29, 2023, from 3 p.m.-5 p.m. EDT.

PLACE: The meeting will be held by videoconference through the National Science Foundation.

STATUS: Open.

MATTERS TO BE CONSIDERED: Chair's opening remarks; Discussion of S&E Indicators 2026 goals and potential products.

CONTACT PERSON FOR MORE INFORMATION: Point of contact for this meeting is Chris Blair, cblair@nsf.gov, 703/292-7000. Members of the public can observe this meeting through a YouTube livestream. The YouTube link will be available from the NSB meetings web page— https://www.nsf.gov/nsb/meetings/index.jsp.

Christopher Blair,
Executive Assistant to the National Science Board Office.

[FR Doc. 2023-13496 Filed 6-21-23; 4:15 pm]

BILLING CODE 7555-01-P